DEPARTMENT OF HOMELAND SECURITY

U.S. Customs and Border Protection

U.S. Immigration and Customs Enforcement

DEPARTMENT OF THE TREASURY

19 CFR Chapters I and IV

[CBP Dec. 10-03]

Name Change of Two DHS Components

AGENCY: U.S. Customs and Border Protection, DHS; U.S. Immigration and Customs Enforcement, DHS; Department of the Treasury.

ACTION: Final rule.

SUMMARY: On March 31, 2007, the name of the Bureau of Customs and Border Protection changed to U.S. Customs and Border Protection (CBP) and the name of the Bureau of Immigration and Customs Enforcement changed to U.S. Immigration and Customs Enforcement (ICE). This final rule revises two chapter headings in title 19 of the Code of Federal Regulations to reflect the name changes for those two Department of Homeland Security (DHS) components.

DATES: Effective Date: March 16, 2010.

FOR FURTHER INFORMATION CONTACT: For CBP: Harold Singer, Director, Regulations and Disclosure Law Division, Office of International Trade, U.S. Customs and Border Protection, (202) 325-0101. For ICE: Jason J. Johnsen, Writer/Editor, Office of Policy, U.S. Immigration and Customs Enforcement, (202) 732-4245.

SUPPLEMENTARY INFORMATION:

Background

On November 25, 2002, the President signed the Homeland Security Act of 2002, 6 U.S.C. 101 et seq., Public Law 107-296, (the “HSA”), establishing the Department of Homeland Security (DHS). Pursuant to section 403(1) of the HSA (6 U.S.C. 203(1)), the U.S. Customs Service was transferred from the Department of the Treasury to DHS effective March 1, 2003. In addition, the Customs Service was renamed as the “Bureau of Customs and Border Protection” pursuant to section 1502 of the HSA. Section 442 of the HSA (6 U.S.C. 252) established the “Bureau of Border Security.” Under section 1502 of the HSA, the Bureau of Border Security was renamed as the “Bureau of Immigration and Customs Enforcement,” effective March 1, 2003. The President's “Reorganization Plan Modification for the Department of Homeland Security,” dated January 30, 2003, memorializes these name changes.

On January 18, 2007, DHS notified Congress that it was changing the name of the Bureau of Customs and Border Protection to “U.S. Customs and Border Protection (CBP)” and the name of the Bureau of Immigration and Customs Enforcement to “U.S. Immigration and Customs Enforcement (ICE).” Pursuant to section 872(a)(2) of the HSA (6 U.S.C. 452(a)(2), notice of the name change was provided to Congress no later than 60 days before the change could become effective. On April 23, 2007, a notice was published in the Federal Register to inform the public that DHS had changed the names of the two components effective March 31, 2007. 72 FR 20131.

This document revises the headings of chapters I and IV of title 19 of the Code of Federal Regulations (19 CFR) to reflect the agency name changes as set forth in the Federal Register notice of April 23, 2007.

Inapplicability of Prior Public Notice and Delayed Effective Date Requirements

This regulation involves matters relating to agency management and involves a technical change regarding the name of the two DHS components. For this reason, pursuant to 5 U.S.C. 553(a)(2), prior notice and comment is not required. Because this is not a substantive rule, publication and service of the rule thirty days before its effective date, pursuant to 5 U.S.C. 553(d), is likewise not required.

The Regulatory Flexibility Act and Executive Order 12866

Because no notice of proposed rulemaking is required, the provisions of the Regulatory Flexibility Act (5 U.S.C. 601 et seq.) do not apply. Further, this amendment does not meet the criteria for a “significant regulatory action” for purposes of Executive Order 12866.

Amendments to the Regulations

For the reasons set forth above in the preamble, under the authority of 6 U.S.C. 452, and the April 23, 2007, DHS Federal Register notice announcing the name change for CBP and ICE, the headings of chapters I and IV of title 19 of the Code of Federal Regulations are amended as set forth below:

1. Revise the chapter I heading to title 19 to read as follows.

Chapter I—U.S. Customs and Border Protection, Department of Homeland Security; Department of the Treasury

2. Revise the chapter IV heading to title 19 to read as follows.

Chapter IV—U.S. Immigration and Customs Enforcement; Department of Homeland Security

Dated: March 10, 2010.
Janet Napolitano,
Secretary, Department of Homeland Security.
Timothy E. Skud,
Deputy Assistant Secretary, Tax, Tariff, and Trade Policy, Department of the Treasury.

[FR Doc. 2010-5639 Filed 3-15-10; 8:45 am]

BILLING CODE 9111-14-P